ENVIRONMENTAL PROTECTION AGENCY

[FRL-7887-4]

Gulf of Mexico Program Management Committee Meeting

AGENCY: Environmental Protection Agency (EPA).

ACTION: Notice of meeting.

SUMMARY: Under the Federal Advisory Committee Act (Public Law 92-463), EPA gives notice of a meeting of the Gulf of Mexico Program (GMP) Management Committee (MC).

DATES: Special Partnership Presentations will be held on Tuesday, April 12, 2005, from 5 p.m. to 7 p.m. and the meeting will be held on Wednesday, April 13, 2005, from 9 a.m. to 3 p.m.

ADDRESSES: The meeting will be held at the Omni Royal Orleans Hotel, 621 Saint Louis Street, New Orleans, LA 70140 (504-529-5333).

FOR FURTHER INFORMATION CONTACT: Gloria D. Car, Designated Federal Officer, Gulf of Mexico Program Office, Mail Code EPA/GMPO, Stennis Space Center, MS 39529-6000 at (228) 688-2421.

SUPPLEMENTARY INFORMATION: Proposed agenda topics include: Gulf States Priority Initiatives Report; Non-Government Partnership Reports on GMP Focused Objectives and Key Initiatives; Focus Area Status Reports and Comprehensive Meeting Recommendations. The meeting is open to the public.

Dated: March 14, 2005.
Gloria D. Car,
Designated Federal Officer.

[FR Doc. 05-5612 Filed 3-21-05; 8:45 am]

BILLING CODE 6560-50-P